NATIONAL SCIENCE FOUNDATION

Sunshine Act Meetings; National Science Board

The National Science Board (NSB), pursuant to NSF regulations (45 CFR part 614), the National Science Foundation Act, as amended, (42 U.S.C. 1862n-5), and the Government in the Sunshine Act (5 U.S.C. 552b), hereby gives a correction to the scheduling of a previously noticed meeting for the transaction of NSB business as described below.

FEDERAL REGISTER CITATION OF PREVIOUS ANNOUNCEMENT: The meeting was originally noticed in the Federal Register on January 30, 2020 at 85 FR 5486.

PREVIOUSLY ANNOUNCED TIME AND DATE OF THE MEETING:

Original Committee on Oversight (CO) Agenda

Wednesday, February 5, 2020

Open session: 2:30-3:00 p.m.

• Committee Chair's Remarks

• Approval of Prior Open Minutes

• Merit Review Digest and Update on Modernization

• Discussion and vote on NSB Preface to Merit Review Digest

• OIG Semiannual Report and Management Response

• Inspector General's Update

• Chief Financial Officer's Update

CHANGES IN THE MEETING:

Corrected Committee on Oversight (CO) Agenda

Wednesday, February 5, 2020

Open session: 2:30-3:00 p.m.

• Committee Chair's Remarks

• Approval of Prior Open Minutes

• Merit Review Digest and Update on Modernization

• Discussion and vote on NSB Preface to Merit Review Digest

• Inspector General's Update

• Chief Financial Officer's Update

CONTACT PERSON FOR MORE INFORMATION: The NSB Office contact is Brad Gutierrez, bgutierr@nsf.gov, 703/292-7000.

Chris Blair,
Executive Assistant to the National Science Board Office.

[FR Doc. 2020-02793 Filed 2-18-20; 4:15 pm]

BILLING CODE 7555-01-P